DEPARTMENT OF HOMELAND SECURITY

Coast Guard

33 CFR Part 117

[Docket No. USCG-2011-0986]

Drawbridge Operation Regulations; Doullut Canal, Mile 0.2, Plaquemines Parish, Empire, LA

AGENCY: Coast Guard, DHS.

ACTION: Notice of temporary deviation from regulations.

SUMMARY: The Commander, Eighth Coast Guard District, has issued a temporary deviation from the regulation governing the operation of the SR 11 Bridge over Doullut Canal, mile 0.2, Plaquemines Parish, Empire, LA. This deviation will allow the draw to remain in the closed-to-navigation position for the duration of the 2011 Orange King Festival Bicycle Race.

DATES: This deviation is effective on December 3, 2011 from 8 a.m. until noon.

ADDRESSES: Documents mentioned in this preamble as being available in the docket are part of docket USCG-2011-0986 and are available online by going to http://www.regulations.gov, inserting USCG-2011-0986 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Jim Wetherington; Bridge Administration Branch, Eighth Coast Guard District, telephone (504) 671-2128, email james.r.wetherington@uscg.mil. If you have questions on viewing the docket, call Renee V. Wright, Program Manager, Docket Operations, telephone (202) 366-9826.

SUPPLEMENTARY INFORMATION: The subject bridge is the SR 11 Swing Bridge across Doullut Canal at mile 0.2, in Empire, Plaquemines Parish, LA. The vertical clearance is 3.3 feet above mean high water. Presently, under 33 CFR 117.5, the draw of the SR 11 Swing Bridge across Doullut Canal at mile 0.2, in Empire, shall open on signal.

The owner requests the bridge be allowed to remain in the closed-to-navigation position for the purpose of the running of the 2011 Orange King Festival Bike Race. This deviation is effective December 3, 2011 from 8 a.m. until noon. Coordination will be through Public Notice and Local Notice to Mariners upon date of publication in the Federal Register. This bridge will open for emergencies. In accordance with 33 CFR 117.35(e), the drawbridge must return to its regular operating schedule immediately at the end of the designated time period.

This deviation from the operating regulations is authorized under 33 CFR 117.35.

Dated: October 18, 2011.
David M. Frank,
Bridge Administrator.

[FR Doc. 2011-29241 Filed 11-10-11; 8:45 am]

BILLING CODE 9110-04-P